INTERNATIONAL TRADE COMMISSION

[Investigation No. 337-TA-1211]

Certain Vaporizer Cartridges and Components and Accessories Thereof; Notice of Commission Determination Not To Review an Initial Determination Granting Complainant's Motion for Leave To Amend the Complaint and Notice of Investigation

AGENCY: U.S. International Trade Commission.

ACTION: Notice.

SUMMARY: Notice is hereby given that the U.S. International Trade Commission (“Commission”) has determined not to review the Administrative Law Judge's (“ALJ”) initial determination (“ID”) (Order No. 22) granting the complainant's motion for leave to amend the complaint and notice of investigation.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 14, 2020, the Commission instituted this investigation based on a complaint, as supplemented, filed on behalf of Juul Labs, Inc. of San Francisco, California. 85 FR 49679 (Aug. 14, 2020). The complaint, as supplemented, alleges violations of section 337 of the Tariff Act of 1930, as amended, 19 U.S.C. 1337, based upon the importation into the United States, the sale for importation, and the sale within the United States after importation of certain vaporizer cartridges and components thereof by reason of infringement of U.S. Design Patent Nos. D842,536; D858,870; D858,869; and D858,868. Id. The complaint further alleges that a domestic industry exists. Id. The Commission's notice of investigation names forty-nine (49) respondents, including 2nd Wife Vape of Haslet, Texas (“2nd Wife Vape”); CaryTown Tobacco of Richmond, Virginia (“CaryTown Tobacco”); eJuiceDB of Farmingdale, New York (“eJuiceDB”); EZFumes of Bedford, Texas (“EZFumes”); Limitless Accessories, Inc. of Tinley Park, Illinois (“Limitless Accessories, Inc.”); Mr. Fog of Bensenville, Illinois (“Mr. Fog”); Naturally Peaked Health Co. of Brewster, New York (“Naturally Peaked Health Co.”); Price Point NY of Farmingdale, New York (“Price Point NY”); Puff E-Cig of Imlay City, Michigan (“Puff E-Cig”); Shenzhen Azure Tech USA LLC f/k/a DS Vaping P.R.C. of Guangdong, China (“Shenzhen Azure Tech USA LLC f/k/a DS Vaping P.R.C.”); Shenzhen Yark Technology Co., Ltd. of Shenzhen, China (“Shenzhen Yark Technology Co., Ltd.”); Smoker's Express of Auburn Hills, Michigan (“Smoker's Express”); Tobacco Alley of Midland of Midland, Texas (“Tobacco Alley of Midland”); Valgous of Bensenville, Illinois (“Valgous”); and Vape 'n Glass of Streamwood, Illinois (“Vape 'n Glass”). See id. The Office of Unfair Import Investigations (“OUII”) is also a party to the investigation. See id.

On October 5, 2020, the complainant filed a motion to amend the complaint and notice of investigation to correct the addresses and list the full legal names of certain respondents. Specifically, the complainant seeks to: (1) Include the true legal names for respondents 2nd Wife Vape, CaryTown Tobacco, eJuiceDB, EZFumes, Price Point NY, Smoker's Express, Tobacco Alley of Midland, Vape 'n Glass, Naturally Peaked Health Co., and Puff E-Cig; (2) correct the addresses for respondents Shenzhen Azure Tech USA LLC f/k/a DS Vaping P.R.C. and Shenzhen Yark Technology Co., Ltd.; (3) correct that respondents Limitless Accessories, Inc. and Valgous are a single legal entity named Limitless Accessories, Inc. d/b/a Valgous; and (4) correct both the name and address for respondent Mr. Fog.

None of the respondents filed a response. On October 15, 2020, OUII filed a response supporting complainant's motion.

On October 21, 2020, the ALJ issued the subject ID granting, pursuant to Commission Rule 210.14(b) (19 CFR 210.14(b)), the complainant's motion. See Order No. 22 (Oct. 21, 2020). No party petitioned for review of the subject ID.

The Commission has determined not to review the subject ID.

The Commission vote for this determination took place on November 13, 2020.

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the complainant complete service for any party/parties without a method of electronic service noted on the attached Certificate of Service and shall file proof of service on the Electronic Document Information System (EDIS).

The authority for the Commission's determination is contained in section 337 of the Tariff Act of 1930, as amended (19 U.S.C. 1337), and in Part 210 of the Commission's Rules of Practice and Procedure (19 CFR part 210).

By order of the Commission.
Issued: November 13, 2020.
Lisa Barton,
Secretary to the Commission.

[FR Doc. 2020-25478 Filed 11-18-20; 8:45 am]

BILLING CODE 7020-02-P